DEPARTMENT OF VETERANS AFFAIRS

Veterans' Advisory Committee on Rehabilitation, Notice of Meeting

The Department of Veterans Affairs (VA) gives notice under the Federal Advisory Committee Act, 5 U.S.C. App.2, that the Veterans' Advisory Committee on Rehabilitation (VACOR) will meet virtually on Wednesday, September 16 from 12:00 p.m. to 1:30 p.m. EST. The virtual meeting sessions is open to the public.

The purpose of the Committee is to advise the Secretary of VA on the rehabilitation needs of Veterans with disabilities and on the administration of VA's rehabilitation programs.

On September 16, 2020, the Ad Hoc subcommittee will publicly brief the Aug 20, 2020 Day 2 virtual field visit for VACOR to consider in their recommendation discussions. Committee members will discuss recommendations to be included in the Committee's next annual comprehensive report.

Time will be allocated for receiving oral comments from the public. Members of the public may submit written comments for review by the Committee to Latrese Arnold, Designated Federal Officer, Veterans Benefits Administration (28), 810 Vermont Avenue NW, Washington, DC 20420, or at Latrese.Arnold@va.gov. In the communication, writers must identify themselves and state the organization, association or person(s) they represent. For any members of the public that wish to attend virtually, they may use the WebEx link: https://veteransaffairs.webex.com/veteransaffairs/e.php?MTID=ma11b82b1abd06bdad9e8a1341b53137e, password: V9k7aaYTp*3, or join by phone at +14043971596,1999824330##

Dated: August 28, 2020.
LaTonya L. Small,
Federal Advisory Committee Management Officer.

[FR Doc. 2020-19469 Filed 9-2-20; 8:45 am]

BILLING CODE P